DEPARTMENT OF TRANSPORTATION

Federal Highway Administration

Environmental Impact Statement: Riverside County, CA

AGENCY: Federal Highway Administration (FHWA), DOT.

ACTION: Notice of intent.

SUMMARY: The FHWA is issuing this notice to advise the public of its intent to prepare a Draft Environmental Impact Statement for a proposed realignment of State Route 79, from Domenigoni Parkway to Gilman Springs Road, in the cities of Hemet and San Jacinto, the community of Winchester and unincorporated Riverside, County, California.

FOR FURTHER INFORMATION CONTACT: Tay Dam, Senior Project Development Engineer, Federal highway Administration, 888 South Figueroa, Suite 1850, Los Angeles, California, 90017. Telephone: (213) 202-3954. E-mail: tay.dam@fhwa.dot.gov (and) Hideo Sugita, Deputy Executive Director, Riverside County Transportation Commission, P.O. Box 12008, Riverside, California 92502-2208. Telephone: (951) 787-7141. E-mail: hsugita@rctc.org.

SUPPLEMENTARY INFORMATION: The FHWA, in cooperation with the California Department of Transportation, District 8, and the Riverside County Transportation Commission, will prepare an Environmental Impact Statement (EIS) to realign State Route (SR) 79 1.2 miles south of Domenigoni Parkway to Gilman Sprints Road. The proposed realignment corridor to be evaluated is located east of the existing SR 79, through the community of Winchester, and west of the existing route as it passes through Hemet and San Jacinto.

A range of alignment alternatives will be analyzed in the EIS/EIR. Alignment alternatives in the western, central and eastern portions of the project area were identified through an alternatives analysis process described in detail in the Project Criteria and Alternatives Selection for Preliminary Agreement, dated June 22, 2004. These alignment alternatives will be analyzed. The western alignment begins at the southern project limit along Winchester Road, approximately 1.2 miles south of Domenigoni Parkway. It continues north, crossing Domenigoni Parkway and Salt Creek Channel, 0.5 mile east of Winchester Road. The alignment then turns east and parallels Florida Avenue on the south before turning north, paralleling and then crossing the San Diego Canal near Esplanade Avenue. North of Esplanade Avenue, the western alignment continues in a northeast direction and splits into two (2) potential alignments, one following Odell Avenue and one paralleling the Casa Loma Canal, before reconnecting immediately south of the intersection of Sanderson Avenue and North Ramona Boulevard. The western alignment then continues north on Sanderson Avenue and crosses Ramona Expressway to the San Jacinto River.

The central alignment begins at the southern project limit along Winchester Road and continues in a northeast direction crossing Domenigoni Parkway and continuing east, paralleling Salt Creek Channel. It then travels north, east of the San Diego Canal. North of Devonshire Avenue, the central alignment will occur on top of Warren Road, west of Tres Cerritos Hills to Seventh Street. The alignment then heads northeast to parallel the Casa Loma Canal to Sanderson Avenue. Then the central alignment continues north, east of Sanderson Avenue, crosses Ramona Expressway to the northern project limit immediately south of San Jacinto River. The eastern alignment begins at the southern project limit along Winchester Road and continues north, turning northeast after crossing the Salt Creek Channel. The alignment continues northeast paralleling the railroad tracks until Sanderson Avenue. Northeast of the Hemet-Ryan Airport, the eastern alignment turns north in the vicinity of Sanderson Avenue. The alignment continues north along Sanderson Avenue and crosses Ramona Expressway to the San Jacinto River.

The above-described alignment alternatives will be further refined through efforts conducted under the National Environmental Policy Act (NEPA)/Section 404 of the Clean Water Act Memorandum of Understanding integrating the two processes, incorporating comments from the public scoping process, as well as analysis in technical studies. In addition to the build alternatives, a no-build alternative also will be analyzed in the EIS as required by NEPA. Letters describing the proposed action and soliciting comments will be sent to appropriate Federal, State and local agencies, and to private organizations and citizens who previously have expressed, or are known to have, an interest in this project. A scoping meeting will be held for this project in Hemet on Wednesday, September 29, 2004, at the James Simpson Memorial Center, 305 East Devonshire Avenue, beginning at 6:30 p.m. and in San Jacinto on Wednesday, October 6, 2004, at the San Jacinto Unified School District conference room, 2045 San Jacinto Avenue, beginning at 6:30 p.m. Project documents and information are available for review on the project Web site located at: http://www.sr79project.info. The Web site contains project information and will be updated as the project progresses.

To ensure that the full range of issues and alternatives related to this proposed action are addressed and all significant issues are identified, comments and suggestions are invited from interested parties. Comments or questions concerning this proposed action and the Draft EIS should be directed to the FHWA, at the address provided above.

(Catalog of Federal Domestic Assistance Program Number 20.205, Highway Planning and Construction. The regulations implementing Executive Order 12372 regarding intergovernmental consultation on Federal programs and activities apply to this program)
Issued on: August 31, 2004.
Maiser Khaled,
Director, Project Development & Environment, Federal Highway Administration, Sacramento, California.

[FR Doc. 04-20214 Filed 9-3-04; 8:45 am]

BILLING CODE 4910-22-M